DEPARTMENT OF HEALTH AND HUMAN SERVICES

National Institutes of Health

National Cancer Institute Amended; Notice of Meeting

Notice is hereby given of a change in the meeting of the National Cancer Institute Special Emphasis Panel, April 26, 2018, 10:00 a.m. to April 26, 2018, 06:00 p.m., National Cancer Institute Shady Grove, 9609 Medical Center Drive, Room 7W106, Rockville, MD 20850 which was published in the Federal Register on February 05, 2018, 83 FR 5113.

The meeting has been amended to change the start time from 10:00 a.m. to 11:00 a.m. The meeting is closed to the public.

Dated: March 16, 2018.
Melanie J. Pantoja,
Program Analyst, Office of Federal Advisory Committee Policy.

[FR Doc. 2018-05738 Filed 3-20-18; 8:45 am]

BILLING CODE 4140-01-P